DEPARTMENT OF TRANSPORTATION

Federal Aviation Administration

Notice of Passenger Facility Charge (PFC) Approvals and Disapprovals

AGENCY: Federal Aviation Administration (FAA), DOT.

ACTION: Monthly Notice of PFC Approvals and Disapprovals. In September 2001, there were four applications approved. Additionally, 19 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and part 158 of the Federal Aviation Regulations (14 CFR part 158). This notice is published pursuant to paragraph d of § 158.29.

PFC Applications Approved

Public Agency: County of Sheridan, Wyoming.

Application Number: 01-02-C-00-SHR.

Application Type: Impose and use a PFC.

PFC Level: $4.50.

Total PFC Revenue Approved in This Decision: $186,427.

Earliest Charge Effective Date: December 1, 2001.

Estimated Charge Expiration Date: March 1, 2005.

Class of Air Carriers not Required to Collect PFC's: None.

Brief Description of Projects Approved for Collection and Use

Installation of edge drains for runway 14/32 and taxiway B.

Terminal building Americans with Disabilities Act improvements.

Design of runway rehabilitation and deicing containment facility.

Construction of deicing containment facility.

Runway 5/23 rehabilitation.

Decision Date: September 5, 2001.

FOR FURTHER INFORMATION CONTACT: Chris Schaffer, Denver Airports District Office, (303) 342-1258.

Public Agency: Municipal Airport Authority, Fargo, North Dakota.

Application Number: 01-05-C-00-FAR.

Application Type: Impose and use a PFC.

PFC Level: $4.50.

Total PFC Revenue Approved in This Decision: $1,942,080.

Earliest Charge Effective Date: September 1, 2002.

Estimated Charge Expiration Date: January 1, 2004.

Class of Air Carriers not Required to Collect PFC's: Air taxi/commercial operators filing FAA Form 1800-31.

Determination: Approved. Based on information contained in the public agency's application, the FAA has determined that the approved class accounts for less than 1 percent of the total annual enplanements at Hector International Airport.

Brief Description of Projects Approved for Collection and Use

Emergency electrical generator for the passenger terminal.

Purchase and install jet bridge conversion equipment.

Purchase and install ultra high frequency radio system.

Purchase and install security announcement system.

Purchase and install passenger boarding bridge and rehabilitate boarding area.

Rehabilitate passenger terminal exterior and upgrade heating, ventilation, and air conditioning.

Electrical generator for snow removal equipment facility.

Install signage around perimeter of airport.

PFC development costs.

Truck mounted snow plow.

Security system modification.

Purchase passenger lift and stairs.

Truck mounted runway sanding unit.

Reimbursement for PFC audit and administrative fees.

Purchase and install automated passenger boarding bridge.

Purchase and install a flight information and display system.

Purchase forward looking infrared system.

Rehabilitate existing runway 17 threshold lights.

Acquire friction measuring device.

Terminal apron rehabilitation.

Taxiway B3 reconstruction.

Eastside general aviation apron improvements (phase I).

Eastside general aviation storm sewer rehabilitation (phase I).

Eastside commercial apron improvements (phase I).

Year 2000 upgrade of security access control system.

Upgrade runway surface sensor system for Year 2000.

Eastside general aviation apron improvements (phase II).

Eastside commercial apron improvements (phase II).

Eastside general aviation storm sewer rehabilitation (phase II).

Rehabilitate runway 13/31.

Improve surface drainage along taxiway A.

Install runway threshold lights on runway 8/26.

Construct county drain 10.

Construct airport perimeter road.

Plans and specifications for runway 8/26 extension and perimeter roads.

Conduct airport master plan update.

Decision Date: September 12, 2001.

FOR FURTHER INFORMATION CONTACT: Tom Schauer, Bismarck Airports District Office, (701) 323-7380.

Public Agency: County of Clinton, Plattsburgh, New York.

Application Number: 01-05-C-00-PLB.

Application Type: Impose and use a PFC.

PFC Level: $3.00.

Total PFC Revenue Approved in This Decision: $56,500.

Earliest Charge Effective Date: December 1, 2002.

Estimated Charge Expiration Date: April 1, 2005.

Classes of Air Carriers not Required to Collect PFC's: Non-scheduled/on demand operators filing FAA Form 1800-31.

Determination: Approved. Based on information contained in the public agency's application, the FAA has determined that the approved class accounts for less than 1 percent of the total annual enplanements at Clinton County Airport.

Brief Description of Projects Approved for Collection and Use

Purchase runway sweeper.

Runways 1/19 and 14/32 crack repair.

Brief Description of Projects Approved for Use

On-airport obstruction removal.

Transient apron rehabilitation.

Decision Date: September 26, 2001.

FOR FURTHER INFORMATION CONTACT: Robert Levine, New York Airports District Office, (516) 227-3807.

Public Agency: Gillette-Campbell County Airport Board, Gillette, Wyoming.

Application Number: 01-03-C-00-GCC.

Application Type: Impose and use a PFC.

PFC Level: $4.50.

Total PFC Revenue Approved in This Decision: $163,944.

Earliest Charge Effective Date: December 1, 2001.

Estimated Charge Expiration Date: June 1, 2004.

Classes of Air Carriers not Required to Collect PFC's: None.

Brief Description of Projects Approved for Collection and Use

Design project (rehabilitate runway 16/34 shoulders, groove runway 3/21, relocate taxiway C, and extend taxiway C).

Rehabilitate runway 16/34 shoulders and construct blast pads.

Groove runway 3/21.

Relocate taxiway C.

Extended taxiway C to the runway 21 threshold.

Brief Description of Projects Approved for Collection:

Construct new electrical vault.

Construct combined aircraft rescue and firefighting/snow removal equipment building.

Decision Date: September 28, 2001.

FOR FURTHER INFORMATION CONTACT: Chris Schaffer, Denver Airports District Office, (303) 342-1258.

Amendments to PFC Approvals

Amendment No. city, state | Amendment approved date | Original approved net PFC revenue | Amended approved net PFC revenue | Original estimated charge exp. date | Amended estimated charge exp. date
95-03-C-03-GPT Gulfport, MS | 05/07/01 | $4,608,400 | $4,763,478 | 02/01/02 | 08/01/01
98-02-C-01-CRP Corpus Christi, TX | 06/25/01 | 32,863,948 | 41,083,878 | 12/01/17 | 04/01/23
99-06-C-01-CLE Cleveland, OH | 08/31/01 | 182,207,915 | 100,101,915 | 03/01/08 | 10/01/04
01-12-C-02-ORD Chicago, IL | 09/05/01 | 1,594,827,790 | 1,315,327,790 | 10/01/18 | 10/01/16
98-04-C-02-CRW Charleston, WV | 08/31/01 | 1,253,835 | 700,795 | 02/01/01 | 05/01/00
93-01-C-03-MSN Madison, WI | 09/13/01 | 9,560,000 | 4,736,271 | 05/01/00 | 05/01/98
96-02-C-01-MSN Madison, WI | 09/13/01 | NA | NA | 05/01/00 | 05/01/98
99-04-C-01-MSN Madison, WI | 09/13/01 | 9,716,667 | 5,396,747 | 12/01/06 | 11/01/01
*95-01-C-01-EAU Eau Claire, WI | 09/14/01 | 755,028 | 757,028 | 09/01/05 | 01/01/06
98-02-C-01-RDM Redmond, OR | 09/17/01 | 571,248 | 726,735 | 02/01/03 | 02/01/03
98-01-C-01-ROA Roanoke, VA | 09/18/01 | 7,237,454 | 6,548,454 | 03/01/06 | 06/01/05
*98-01-C-02-ROA Roanoke, VA | 09/20/01 | 6,548,454 | 6,463,183 | 06/01/05 | 05/01/04
00-10-C-01-BDL Windsor Locks, CT | 09/21/01 | 4,358,000 | 1,869,103 | 01/01/01 | 01/01/01
*98-04-I-03-STL St. Louis, MO | 09/21/01 | 178,756,391 | 200,257,958 | 09/01/01 | 05/01/02
99-05-U-02-STL St. Louis, MO | 09/21/01 | NA | NA | 09/01/01 | 05/01/02
*93-01-C-02-CAE Columbia, SC | 09/25/01 | 32,892,904 | 70,528,884 | 09/01/01 | 12/01/10
*92-01-C-04-HPN White Plains, NY | 09/27/01 | 19,383,000 | 17,932,607 | 10/01/13 | 05/01/04
*98-05-C-01-MEI Meridian, MS | 09/28/01 | 121,650 | 121,650 | 09/01/02 | 09/01/02
*99-06-C-01-MEI Meridian, MS | 09/28/01 | 148,000 | 148,000 | 05/01/04 | 05/01/04
Note: The amendments denoted by an asterisk (*) include a change to the PFS level charged from $3.00 per enplaned passenger to $4.50 per enplaned passenger. For Meridian, MS, St. Louis, MO, White Plains, NY, Columbia, SC, Roanoke, VA, and Eau Claire, WI, this change is effective on December 1, 2001.

Issued in Washington, DC. on October 31, 2001.
Eric Gabler,
Manager, passenger Facility Charge Branch.

[FR Doc. 01-27996 Filed 11-6-01; 8:45 am]

BILLING CODE 4910-13-M